NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 4, 2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Bruce C. Sidell, School of Marine Sciences, University of Maine, 5751 Murray Hall, Orono, ME 04469-5751. Permit Application No. 2005-015.

Activity for Which Permit Is Required

Enter Antarctic Specially Protected Area. The applicant proposes to enter marine Antarctica Specially Protected areas to conduct experimental fishing to capture Channichthyid icefishes for studies of their physiology and biochemistry. Capture by use of benthic otter trawling is restricted to only those areas where the bottom is known to be relatively flat and muddy, in order to avoid damage to the net. A very limited number of areas meet these criteria, but included are marine Antarctic Specially Protected Areas, Western Bransfield Strait (ASPA #152) and Dallman Bay (ASPA #153) Arrival Heights (ASPA #122).

Location

Western Bransfield Strait (ASPA #152) and Dallman Bay (ASPA #153).

Dates

April 1, 2005 to June 30, 2005.

Nadene G. Kennedy,
Permit Officer, Office of Polar Programs.

[FR Doc. 04-20044 Filed 9-1-04; 8:45 am]

BILLING CODE 7555-01-M